DEPARTMENT OF LABOR

Employment and Training Administration

[TA-W-41,733]

Lenox China, Oxford, NC; Notice of Termination of Investigation

Pursuant to Section 221 of the Trade Act of 1974, an investigation was initiated on July 1, 2002, in response to a worker petition filed by a company official on behalf of workers at Lenox China, Oxford, North Carolina.

The petitioner has requested that the petition be withdrawn. Consequently further investigation in this case would serve no purpose, and the investigation has been terminated.

Signed in Washington, DC this 29th day of August 2002.
Richard Church,
Certifying Officer, Division of Trade Adjustment Assistance.

[FR Doc. 02-22970 Filed 9-9-02; 8:45 am]

BILLING CODE 4510-30-P